NUCLEAR REGULATORY COMMISSION

[NRC-2019-0101]

Anchoring Components and Structural Supports in Concrete

AGENCY: Nuclear Regulatory Commission.

ACTION: Regulatory guide; issuance.

SUMMARY: The U.S. Nuclear Regulatory Commission (NRC) is issuing Revision 1 to Regulatory Guide (RG) 1.199, “Anchoring Components and Structural Supports in Concrete.” The guide was revised to endorse updated versions of the codes and standards that were endorsed in Revision 0 of the guide.

DATES: Revision 1 to RG 1.199 is available on April 9, 2020.

ADDRESSES: Please refer to Docket ID NRC-2019-0101 when contacting the NRC about the availability of information regarding this document. You may obtain publicly-available information related to this document using any of the following methods:

• Federal Rulemaking Website: Go to https://www.regulations.gov and search for Docket ID NRC-2019-0101. Address questions about NRC docket IDs in Regulations.gov to Jennifer Borges; telephone: 301-287-9127; email: Jennifer.Borges@nrc.gov. For technical questions, contact the individuals listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. Revision 1 to RG 1.199 and the regulatory analysis may be found in NRC's Agencywide Documents Access and Management System (ADAMS) under Accession Nos. ML19336A079 and ML17258A580 respectively.

Regulatory guides are not copyrighted, and NRC approval is not required to reproduce them.

FOR FURTHER INFORMATION CONTACT: Marcos Rolon-Acevedo, telephone: 301-415-2205; email: Marcos Rolon-Acevedo@nrc.gov, and Edward O'Donnell, telephone: 301-415-3317; email: Edward.Odonnell@nrc.gov. Both are staff members of the Office of Nuclear Regulatory Research, U.S. Nuclear Regulatory Commission, Washington, DC 20555-0001.

SUPPLEMENTARY INFORMATION:

I. Discussion

The NRC is issuing a revision to an existing guide in the NRC's “Regulatory Guide” series. This series was developed to describe and make available to the public information regarding methods that are acceptable to the NRC staff for implementing specific parts of the agency's regulations, techniques that the NRC staff uses in evaluating specific issues or postulated events, and data that the NRC staff needs in its review of applications for permits and licenses.

Revision 1 of RG 1.199 was issued for public comment with a temporary identification of Draft Regulatory Guide, DG-1284. The revision addresses changes in the codes and standards endorsed by Revision 0 of the guide. The revised codes and standards endorsed by Revision 1 include: (1) Appendix D, “Anchoring to Concrete,” of American Concrete Institute (ACI) 349-13, “Code Requirements for Nuclear Safety-Related Concrete Structures and Commentary,” (2) ACI 355.2-07, “Qualification of Post-Installed Mechanical Anchors in Concrete and Commentary,” and (3) American Society for Testing and Materials (ASTM) E488/E488M-15, “Standard Test Methods for Strength of Anchors in Concrete Elements.”

II. Additional Information

The NRC published a notice of the availability of DG-1284 in the Federal Register on April 22, 2019 (84 FR 16699) for a 60-day public comment period. The public comment period closed on June 21, 2019 and there were no public comments on the guide.

III. Congressional Review Act

This RG is a rule as defined in the Congressional Review Act (5 U.S.C. 801-808). However, the Office of Management and Budget has not found it to be a major rule as defined in the Congressional Review Act.

IV. Backfitting, Forward Fitting, and Issue Finality

This regulatory guide provides guidance on standards for anchoring components and structural supports in concrete for nuclear power plants licensed under 10 CFR parts 50 and 52. The issuance of this regulatory guide does not constitute backfitting as defined in 10 CFR 50.109, “Backfitting,” and as described in NRC Management Directive 8.4, “Management of Backfitting, Forward Fitting, Issue Finality, and Information Requests,” or affect issue finality of any approval issued under 10 CFR part 52, “Licenses, Certificates, and Approvals for Nuclear Power Plants,” because, as explained in this regulatory guide, licensees are not required to comply with the positions set forth in this regulatory guide.

Dated: April 3, 2020.
For the Nuclear Regulatory Commission.
Thomas H. Boyce,
Chief, Regulatory Guidance and Generic Issues Branch, Division of Engineering, Office of Nuclear Regulatory Research.

[FR Doc. 2020-07421 Filed 4-8-20; 8:45 am]

BILLING CODE 7590-01-P